DEPARTMENT OF COMMERCE

International Trade Administration

[C-570-921]

Lightweight Thermal Paper From the People's Republic of China: Notice of Rescission of Countervailing Duty Administrative Review

AGENCY: Enforcement and Compliance, International Trade Administration, Department of Commerce.

SUMMARY: The Department is rescinding the administrative review of the countervailing duty order on lightweight thermal paper from the People's Republic of China. The period of review is January 1, 2014, through December 31, 2014.

DATES: Effective August 2, 2016.

FOR FURTHER INFORMATION CONTACT: Sergio Balbontin at (202) 482-6478, AD/CVD Operations, Office I, Enforcement and Compliance, International Trade Administration, U.S. Department of Commerce, 1401 Constitution Avenue NW., Washington, DC 20230.

SUPPLEMENTARY INFORMATION:

Background

On November 3, 2015, the Department of Commerce (Department) published a notice of opportunity to request an administrative review of the countervailing duty order on lightweight thermal paper (LWTP) from the People's Republic of China (PRC) for the period of review (POR) of January 1, 2014, through December 31, 2014.¹ The Department received a timely-filed request from Appvion, Inc. (Appvion), in accordance with 19 CFR 351.213(b), for an administrative review.² On February 9, 2016, the Department published a notice of initiation.³ On March 10, 2016, Jaan Huey Co., Ltd. (Jaan Huey), a company for which the Department initiated an administrative review, informed the Department that it would not participate in this administrative review.⁴ Subsequent to the Initiation Notice, the Department requested from U.S. Customs and Border Protection (CBP) data for U.S. imports of subject merchandise during the POR for the companies for which an administrative review was requested.⁵ The CBP data demonstrated that there were no entries of subject merchandise exported by these companies during the POR.⁶ The Department solicited interested party comments,⁷ and we received no comments.

¹ See Antidumping or Countervailing Duty Order, Finding, or Suspended Investigation; Opportunity To Request Administrative Review, 80 FR 67706 (November 3, 2015).

² See letter from Appvion, “Lightweight Thermal Paper From The People's Republic Of China: Request For Administrative Review,” date November 30, 2015.

³ See Initiation of Antidumping and Countervailing Duty Administrative Reviews, 81 FR 6832 (February 9, 2016) (Initiation Notice).

⁴ See letter from Jaan Huey, “Notice of Non-Participation in CVD Review: Annual Countervailing Duty Administrative Review of Lightweight Thermal Paper From the People's Republic of China,” dated March 10, 2016.

⁵ See Memorandum, “Administrative Review of Certain Lightweight Thermal Paper from the People's Republic of China: Request for U.S. Customs and Border Protection Data,” dated April 19, 2016.

⁶ Id.

⁷ Id.

Rescission of Review

It is the Department's practice to rescind an administrative review of a countervailing duty order, pursuant to 19 CFR 351.213(d)(3), when there are no reviewable entries of subject merchandise during the POR for which liquidation is suspended.⁸ Normally, upon completion of an administrative review, the suspended entries are liquidated at the countervailing duty assessment rate calculated for the review period. See 19 CFR 351.212(b)(l). Therefore, for an administrative review to be conducted, there must be a reviewable, suspended entry that the Department can order CBP to liquidate at the newly calculated countervailing duty assessment rate. Accordingly, in the absence of suspended entries of subject merchandise during the period of this administrative review (January 1, 2014, through December 31, 2014), we are now rescinding this administrative review of the countervailing duty order on LWTP from the PRC, pursuant to 19 CFR 351.213(d)(3).

⁸ See, e.g., Certain Welded Carbon Steel Standard Pipe and Tube From Turkey: Notice of Final Rescission of Countervailing Duty Administrative Review, In Part, 77 FR 6542 (February 8, 2012).

This notice is issued and published pursuant to section 751 of the Tariff Act of 1930, as amended, and 19 CFR 351.213(d)(4).

Dated: July 25, 2016.
Christian Marsh,
Deputy Assistant Secretary for Antidumping and Countervailing Duty Operations.

[FR Doc. 2016-18302 Filed 8-1-16; 8:45 am]

BILLING CODE 3510-DS-P